ENVIRONMENTAL PROTECTION AGENCY

[EPA-R08-SFUND-2022-0281; FRL-10766-01-R8]

Prospective Lessee Agreement, Agnico Eagle Mines Limited, Agnico Eagle (USA) Limited, Lawrence County, South Dakota

AGENCY: Environmental Protection Agency (EPA).

ACTION: Notice of proposed agreement; request for public comment.

SUMMARY: Notice is hereby given by the U.S. Environmental Protection Agency (EPA), Region 8, of a prospective lessee agreement between the United States, the State of South Dakota, Agnico Eagle Mines Limited, and Agnico Eagle (USA) Limited (collectively “Agnico”), at the Gilt Edge Mine Superfund Site in Lawrence County, South Dakota (Agreement). The agreement provides that Agnico will perform a reuse assessment, including surface and subsurface sampling, and pay at least $2.5 million annually to cover the cost of water treatment and site operations at the Gilt Edge Mine Site during the pendency of the Agreement. In exchange, the United States and the State of South Dakota covenant not to sue Agnico for Existing Contamination, work (including subsurface and surface sampling) conducted by Agnico, and certain payments as defined in the agreement.

DATES: Comments must be submitted on or before April 21, 2023.

ADDRESSES: The proposed agreement and additional background information relating to the agreement will be available upon request and will be posted at https://www.epa.gov/superfund/gilt-edge. Comments and requests for an electronic copy of the proposed agreement should be addressed to Anna Copeland, Enforcement Specialist, Superfund and Emergency Management Division, Environmental Protection Agency—Region 8, Mail Code 8SEM-PAC, 1595 Wynkoop Street, Denver, Colorado 80202, or telephone number: (303) 312-6764,or email address: copeland.anna@epa.gov and should reference the Gilt Edge Mine Superfund Site.

You may also send comments, identified by Docket ID No. EPA-R08-SFUND-2022-0281 to http://www.regulations.gov. Follow the online instructions for submitting comments.

FOR FURTHER INFORMATION CONTACT: Amelia Piggott, Assistant Regional Counsel, Office of Regional Counsel, Environmental Protection Agency, Region 8, Mail Code 8 ORC-LEC, 1595 Wynkoop, Denver, Colorado 80202, telephone number: (303) 312-6410, email address: piggott.amelia@epa.gov.

SUPPLEMENTARY INFORMATION: For thirty (30) days following the date of publication of this document, the Agency will receive written comments relating to the agreement. The Agency will consider all comments received and may modify or withdraw its consent to the agreement if comments received disclose facts or considerations that indicate that the agreement is inappropriate, improper, or inadequate.

Ben Bielenberg,
Acting Division Director, Superfund and Emergency Management Division, Region 8.

[FR Doc. 2023-05898 Filed 3-21-23; 8:45 am]

BILLING CODE 6560-50-P